DELAWARE RIVER BASIN COMMISSION

Notice of Public Meeting

AGENCY: Delaware River Basin Commission (“DRBC”).

ACTION: Public meeting.

SUMMARY: The DRBC will hold a public meeting via teleconference for the purposes of adopting its annual Capital and Current Expense Budgets for the fiscal year ending June 30, 2012 and establishing a budget and finance committee. A public hearing on the fiscal year 2012 budgets was held previously, on March 2, 2011.

DATES: The public meeting via teleconference will take place on Tuesday, June 28, 2011 at 1 p.m. and is expected to last for less than one hour.

ADDRESSES: The DRBC will provide public access to the teleconference from the Goddard Room of the Commission's office building at 25 State Police Drive in West Trenton, New Jersey. Directions can be found on the Commission's Web site at http://www.drbc.net.

SUPPLEMENTARY INFORMATION: Section 13.3 of the Delaware River Basin Compact provides that the Commission shall annually adopt a capital budget and a current expense budget. Section 14.4(b) of the Compact requires that the Commission conduct a public hearing before adopting the annual budgets. The required public hearing took place on March 2, 2011.

The Commission also will establish a budget and finance committee consisting of representatives of each of the Commission's five signatories, to provide closer oversight of budget development at a time when the fiscal challenges facing the Commission and state agencies are particularly severe.

The meeting via teleconference is open to the public but will not include a public hearing, since such a hearing already was conducted. At the discretion of the Chair (currently Governor Jack Markell of Delaware, or his alternate), the Commission may entertain questions from the public before or after the business at hand is completed.

The proposed budget resolution and accompanying budget document are available on the Commission's Web site at http://www.drbc.net.

FOR FURTHER INFORMATION CONTACT: Pamela M. Bush, Commission Secretary and Assistant General Counsel, DRBC, at pamela.bush@drbc.state.nj.us.

Dated: June 14, 2011.
Pamela M. Bush,
Commission Secretary.

[FR Doc. 2011-15331 Filed 6-20-11; 8:45 am]

BILLING CODE 6360-01-P